ENVIRONMENTAL PROTECTION AGENCY

[OW-2005-0006, FRL-8002-9]

Agency Information Collection Activities; Submission to OMB for Review and Approval; Comment Request; Willingness To Pay Survey for Section 316(b) Phase III Cooling Water Intake Structures: Instrument, Pre-Test, and Implementation; EPA ICR Number 2155.02

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before December 28, 2005.

ADDRESSES: Submit your comments, referencing docket ID number OW-2005-0006, to (1) EPA online using EDOCKET (our preferred method), by e-mail to ow-docket@epa.gov, or by mail to: EPA Docket Center, Environmental Protection Agency, Water Docket, EPA West, Mail Code 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Erik Helm, Office of Science and Technology, Mail Code 4303T, Environmental Protection Agency, 1200 Pennsylvania Ave., NW., Washington, DC 20460; telephone number: 202-566-1066; fax number: 202-566-1054; e-mail address: helm.erik@epamail.epa.gov.

SUPPLEMENTARY INFORMATION: EPA has submitted the following ICR to OMB for review and approval according to the procedures prescribed in 5 CFR 1320.12. On June 9, 2005, (70 FR 33746), EPA sought comments on this ICR pursuant to 5 CFR 1320.8(d). EPA has addressed the comments received.

EPA has established a public docket for this ICR under Docket ID number OW-2005-0006, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Willingness to Pay Survey for section 316(b) Phase III Cooling Water Intake Structures: Instrument, Pre-test, and Implementation

Abstract: The U.S. Environmental Protection Agency is in the process of developing new regulations to provide national performance standards for controlling impacts from cooling water intake structures (CWIS) for Phase III facilities under section 316(b) of the Clean Water Act (CWA). Phase III under Clean Water Act section 316(b) regulations applies to facilities that withdraw water for cooling purposes from rivers, streams, lakes, reservoirs, estuaries, oceans, or other waters of the United States, and that are either existing electrical generators with cooling water intake structures that are designed to withdraw 50 million gallons of water per day (MGD) or less, or existing manufacturing and industrial facilities. The regulation also establishes section 316(b) requirements for new offshore oil and gas extraction facilities. EPA has previously published final section 316(b) regulations that address new facilities (Phase I) on December 18, 2001 (66 FR 65256) and existing large power producers (Phase II) on July 9, 2004 (69 FR 41576). See 40 CFR part 125, subparts I and J, respectively.

As required under Executive Order 12866, EPA is conducting economic impact and cost-benefit analyses for the section 316(b) regulation for Phase III facilities. Comprehensive, estimates of total resource value include both use and non-use values, such that the resulting total social benefit estimates may be compared to total social cost. Many public comments on the proposed section 316(b) regulation for Phase II facilities and the Phase II Notice of Data Availability suggested that a properly designed and conducted stated preference, or contingent valuation (CV), survey would be the most appropriate and acceptable method to estimate the non-use benefits of the rule. Stated preference survey methodology is the generally accepted means to estimate non-use values. To assess public policy significance or importance of the ecological gains from the section 316(b) regulation for Phase III facilities, EPA proposes to conduct a stated preference study to measure non-use benefits of reduced fish losses at CWIS due to the regulation.

The survey will ask respondents to choose how they would vote, if presented with two different hypothetical regulatory options characterized by (a) changes in annual impingement and entrainment losses of fish and other organisms, (b) effects on long-term fish populations, (c) effects on recreational and commercial catch, and (d) an unavoidable cost of living increase for the respondent's household. Respondents will be allowed to “vote” for one of the presented regulatory options, or to choose not to vote for either option. The survey will also ask respondents to answer questions about their reasons for voting, their level of concern about various policy issues, and their affiliations and recreational activities.

Survey subjects will be randomly selected from a representative national panel of respondents maintained by Knowledge Networks, an online survey company. Subjects will be asked to complete a web-based questionnaire. Participation in the survey is voluntary. Additionally, EPA will conduct non-response follow-up interviews with 600 individuals, and will use statistical techniques to correct for unobserved heterogeneity in the survey data.

To assist in the development of this stated preference survey, EPA previously obtained approval from the Office of Management and Budget to conduct a series of twelve focus groups with a total of 96 respondents (see EPA ICR number 2155.01, OMB number 2040-0262.

EPA received several comments on the proposed ICR for this survey. Many comments provided specific reasons why the survey might overestimate or underestimate willingness to pay to prevent fish losses. Almost all of these comments have been addressed through the focus groups and cognitive interviews, which have helped the Agency to improve the survey.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 41 minutes per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Individuals greater than 18 years of age/households.

Estimated Number of Respondents: 5,000.

Frequency of Response: Once.

Estimated Total Annual Hour Burden: 3,383 hours.

Estimated Total Annual Cost: $59,919. EPA estimates that there will be no capital or O&M costs.

Dated: November 16, 2005.
Oscar Morales,
Director, Collection Strategies Division.

[FR Doc. E5-6591 Filed 11-25-05; 8:45 am]

BILLING CODE 6560-50-P